DEPARTMENT OF COMMERCE

International Trade Administration

[A-570-890]

Notice of Initiation of Administrative Review of the Antidumping Duty Order on Wooden Bedroom Furniture From the People's Republic of China

AGENCY: Import Administration, International Trade Administration, Department of Commerce.

SUMMARY: The Department of Commerce (“Department”) received timely requests to conduct an administrative review of the antidumping duty order on wooden bedroom furniture from the People's Republic of China (“PRC”). The anniversary month of this order is January. In accordance with the Department's regulations, we are initiating this administrative review.

EFFECTIVE DATE: March 7, 2007.

FOR FURTHER INFORMATION CONTACT: Eugene Degnan or Robert Bolling, AD/CVD Operations, Office 8, Import Administration, International Trade Administration, U.S. Department of Commerce, 14th Street and Constitution Avenue, NW., Washington, DC 20230, telephone: (202) 482-0414 or (202) 482-3434, respectively.

SUPPLEMENTARY INFORMATION

Background

The Department received timely requests, in accordance with 19 CFR 351.213(b) (2002), during the anniversary month of January, for an administrative review of the antidumping duty order on wooden bedroom furniture from the PRC covering 196 entities. The Department is now initiating an administrative review of the order covering those entities.

Initiation of Review

In accordance with 19 CFR 351.221(c)(1)(i), we are initiating an administrative review of the antidumping duty order on wooden bedroom furniture from the PRC. We intend to issue the final results of this review not later than January 31, 2008.

| Period
Antidumping Duty Proceeding
The People's Republic of China: ¹ Wooden Bedroom Furniture A-570-890 | 1/01/06-12/31/06
Alexandre International Corp., Southern Art Development Ltd., Alexandre Furniture (Shenzhen) Co. Ltd., Southern Art Furniture Factory*
Art Heritage International Ltd., Super Art Furniture Co. Ltd., Artwork Metal & Plastic Co., Ltd., Jibson Industries Ltd., Always Loyal International*
Baigou Crafts Factory of Fengkai
Beijing MingYaFeng Furniture Co., Ltd.
Best King International Limited, Best King International Ltd., Bouvrie International Limited
Billy Wood Industrial (Dong Guan), Great Union Industrial (Dongguan) Co., Ltd., Time Faith Ltd.*
BNBM Co., Ltd.
Changshu HTC Import & Export Co. Ltd.*
Chen Meng Furniture (PTE) Co., Ltd., Cheng Meng Decoration & Furniture (Suzhou) Co., Ltd.*
Chuan Fa Furniture Factory*
Classic Furniture Global Co., Ltd.*
Clearwise Co., Ltd.*
COE, Ltd.*
Conghua J.L. George Timber & Co., Ltd.
Dalian Guangming Furniture Co., Ltd.*
Dalian Huafeng Furniture Co., Ltd.*
Dalian Pretty Home Furniture Co., Ltd.
Decca Furniture Ltd., aka Decca*
Deqing Ace Furniture & Crafts Ltd.
Der Cheng Furniture Co., Ltd.
Dong Guan Golden Fortune Houseware Co., Ltd.
Dong Guan Hua Ban Furniture Co., Ltd.
Dongguan Cambridge Furniture Co., Ltd., Glory Oceanic Co., Ltd.*
Dongguan Chunsan Wood Products Co., Ltd., Trendex Industries Limited*
Dongguan Creation Furniture Co., Ltd., Creation Industries Co., Ltd.*
Dongguan Dihao Furniture Co., Ltd.
Dongguan Grand Style Furniture Co., Ltd., Hong Kong DaZhi Furniture Company Ltd.*
Dongguan Great Reputation Furniture Co., Ltd.*
Dongguan Hero Way Woodwork Co., Ltd., Hero Way Enterprises, Ltd., Dongguan Da Zhong Woodwork Co., Ltd., Well Earth International Ltd.*
Dongguan Hung Sheng Artware Products Co., Ltd., Coronal Enterprise Co., Ltd.*
Dongguan Kin Feng Furniture Co., Ltd.*
Dongguan Kingstone Furniture Co., Ltd., Kingstone Furniture Co., Ltd.*
Dongguan Landmark Furniture Products Ltd.*
Dongguan Liaobushangdun Huada Furniture Factory, Great Rich (HK) Enterprises Co., Ltd.*
Dongguan Lung Dong Furniture Co., Ltd., Dongguan Dong He Furniture Co., Ltd.*
Dongguan Mingsheng Furniture Co., Ltd.
Dongguan New Technology Import & Export Co., Ltd.
Dongguan Qingxi Xinyi Craft Furniture Factory (Joyce Art Factory)*
Dongguan Sea Eagle Furniture Co., Ltd., Kalanter (Hong Kong) Furniture Company Limited
Dongguan Singways Furniture Co., Ltd.*
Dongguan Sunpower Enterprise Co., Ltd.
Dongguan Sunrise Furniture Co., Taicang Sunrise Wood Industry Co., Ltd., Shanghai Sunrise Furniture Co., Ltd., Fairmont Designs*
Dongguan Yihaiwei Furniture Limited
Dongying Huanghekou Furniture Industry Co., Ltd.*
Dorbest Ltd., Rui Feng Woodwork Co., Ltd., Rui Feng Lumber Development Co., Ltd., aka, Dorbest Ltd., Rui Feng Woodwork (Dongguan) Co., Ltd., Rui Feng Lumber Development (Shenzhen) Co., Ltd.*
Dream Rooms Furniture (Shanghai) Co., Ltd.*
Engmost Investments Limited
Eurosa (Kunshan) Co., Ltd., Eurosa Furniture Co., (PTE) Ltd.*
Ever Spring Furniture Co., Ltd., S.Y.C. Family Enterprise Co., Ltd.*
Fine Furniture (Shanghai) Ltd.*
Fortune Furniture Ltd. and its affiliate, Dongguan Fortune Furniture Ltd.
Foshan Guanqiu Furniture Co., Ltd.*
Fujian Lianfu Forestry Co., Ltd., aka Fujian Wonder Pacific Inc.*
Fuzhou Huan Mei Furniture Co. Ltd.
Gaomi Yatai Wooden Ware Co., Ltd., Team Prospect International Ltd., Money Gain International Co.*
Garri Furniture (Dong Guan) Co., Ltd., Molabile International, Inc. Weei Geo Enterprise Co., Ltd.*
Golden Well International (HK), Ltd.
Green River Wood (Dongguan) Ltd.*
Guangdong New Four Seas Furniture Manufacturing, Ltd., Four Seas Furniture Manufacturing Ltd.
Guangming Group Wumahe Furniture Co., Ltd.*
Guangzhou Lucky Furniture Co., Ltd.*
Guangzhou Maria Yee Furnishings, Ltd., Pyla HK Ltd.*
Hainan Jong Bao Lumber Co., Ltd., Jibbon Enterprise Co., Ltd.*
Hainan Rulai Furniture Co., Ltd.
Hamilton & Spill Ltd.*
Hang Hai Woodcrafts Art Factory*
Hong Kong Boliya Industry Development Co., Ltd.
Hong Yu Furniture (Shenzhen) Co., Ltd.
Hualing Furniture (China) Co., Ltd., Tony House Manufacture (China) Co., Ltd., Buysell Investments Ltd., Tony House Industries Co., Ltd.*
Huizhou Jadom Furniture Co., Ltd., Jadom Furniture Co., Ltd.
Hung Fai Wood Products Factory Ltd.
Hwangho New Century Furniture (Dongguan) Corp. Ltd., Trade Rich Furniture (Dongguan) Corp., Ltd., Hwang Ho International Holdings Limited
Inni Furniture
Jardine Enterprise, Ltd.*
Jiangmen Kinwai Furniture Decoration Co., Ltd. *
Jiangmen Kinwai International Furniture Co., Ltd.*
Jiangsu Dare Furniture Co., Ltd.
Jiangsu Weifu Group Company Fullhouse Furniture Manufacturing Corp*
Jiangsu Xiangsheng Bedtime Furniture Co., Ltd.*
Jiangsu Yuexing Furniture Group Co., Ltd.*
Jiedong Lehouse Furniture Co., Ltd.*
King Kei Trading Co. Ltd., King Kei Furniture Factory, Jiu Ching Trading Co., Ltd.
King Wood Furniture Co., Ltd.
King's Way Furniture Industries Co., Ltd., Kingsyear, Ltd.*
Kong Fong Furniture, Kong Fong Mao Iek Hong
Kuan Lin Furniture (Dong Guan) Co., Ltd., Kuan Lin Furniture Factory, Kuan Lin Furniture Co., Ltd.*
Kunshan Junsen Furniture Co., Ltd.
Kunshan Lee Wood Product Co., Ltd.*
Kunshan Summit Furniture Co. Ltd.*
Kunwa Enterprises Company
Langfang TianCheng Furniture Co., Ltd.*
Leefu Wood (Dongguan) Co., Ltd., King Rich International, Ltd.*
Link Silver Ltd. (V.I.B.), Forward Win Enterprises Co. Ltd., Dongguan Haoshun Furniture Ltd.*
Locke Furniture Factory, Kai Chan Furniture Co. Ltd., Kai Chan (Hong Kong) Enterprise Ltd., Taiwan Kai Chan Co. Ltd.*
Longrange Furniture Co. Ltd.*
Maria Yee, Inc.
Mei Jia Ju Furniture Industrial Shenzhen Co., Ltd.
Meikangchi (Nantong) Furniture Company Ltd.*
Nanjing Nanmu Furniture Co., Ltd.
Nan Tong YangZi Furniture Co., Ltd.
Nanhai Baiyi Woodwork Co. Ltd.*
Nanhai Jiantai Woodwork Co. Ltd., Fortune Glory Industrial, Ltd. (HK Ltd.)*
Nantong Dongfang Orient Furniture Co., Ltd.*
Nantong Yushi Furniture Co., Ltd.*
Nathan China Group
Nathan International Ltd., Nathan Rattan Factory*
Ningbo Furniture Industries Limited, Techniwood Industries Ltd., Ningbo Hengrun Furniture Co., Ltd.*
Orient International Holding Shanghai Foreign Trading Co., Ltd.*
Passwell Corporation, Pleasant Wave Ltd.*
Perfect Line Furniture Co., Ltd.*
Po Ying Industrial Co.
Primewood International Co., Ltd., Prime Best International Co., Ltd., Prime Best Factory, Liang Huang (Jiaxing) Enterprise Co., Ltd.*
Profit Force Limited
PuTian JingGong Furniture Co., Ltd.*
Putian Ou Dian Furniture Co., Ltd.
Qingdao Beiyuan-Shengli Furniture Co., Ltd., Qingdao Beiyuan Industry Trading Co. Ltd.
Qingdao Liangmu Co., Ltd.*
Qingdao Shengchang Wooden Co., Ltd.
Restonic (Dongguan) Furniture Ltd., Restonic Far East (Samoa) Ltd.*
RiZhao SanMu Woodworking Co., Ltd.*
Season Furniture Manufacturing Co., Season Industrial Development Co.*
Sen Yeong International Co. Ltd., Sheh Hau International Trading Ltd.*
Shanghai Aosen Furniture Co., Ltd.
Shanghai Jian Pu Export & Import Co., Ltd.*
Shanghai Maoji Imp. & Exp. Co. Ltd.*
Shanghai Star Furniture Co., Ltd.
Shanghai XingDing Furniture Industrial Co., Ltd.
Sheng Jing Wood Products (Beijing) Co., Ltd., Telstar Enterprises Ltd.*
Shenyang Kunyu Wood Industry Co., Ltd.*
Shenyang Shining Dongxing Furniture Co., Ltd.*
Shenzhen Dafuhao Industrial Development Co., Ltd.
Shenzhen Forest Furniture Co., Ltd.*
Shenzhen Jiafa High Grade Furniture Co., Ltd., Golden Lion International Trading Ltd.
Shenzhen New Fudu Furniture Co., Ltd.*
Shenzhen Shen Long Hang Industry Co., Ltd.
Shenzhen Tiancheng Furniture Co., Ltd., Winbuild Industrial Ltd., Red Apple Furniture Co., Ltd. and Red Apple Trading Co., Ltd.
Shenzhen Wonderful Furniture Co., Ltd.*
Shenzhen Xiande Furniture Factory*
Shenzhen Xingli Furniture Co., Ltd.*
Shing Mark Enterprise Co., Ltd., Carven Industries Ltd. (BVI), Carven I Industries Limited (HK), Dongguan Zhenxin Furniture Co., Ltd., Dongguan Yongpeng Furniture Co., Ltd.*
Shun Feng Furniture Co., Ltd.*
Sino Concord (Zhangzhou) Furniture Co., Ltd., Sino Concord International Corporation
Songgang Jasonwood Furniture Factory, Jasonwood Industrial Co., Ltd. S.A.*
Speedy International Ltd.
Starcorp Furniture (Shanghai) Co., Ltd., Orin Furniture (Shanghai) Co., Ltd., Shanghai Starcorp Furniture Co., Ltd. *
Starwood Furniture Manufacturing Co., Ltd.*
Starwood Industries Ltd.*
Strongson Furniture (Shenzhen) Co., Ltd., Strongson Furniture Co., Ltd., Strongson (HK) Co.*
Sunforce Furniture (Hui-Yang) Co., Ltd., Sun Fung Wooden Factory, Sun Fung Co., Shin Feng Furniture Co. Ltd., Stupendous International Co. Ltd.*
Superwood Co. Ltd., Lianjiang Zongyu Art Products Co., Ltd.*
T.J. Maxx International Co., Ltd.
Tarzan Furniture Industries, Ltd., Samso Industries Ltd.*
Teamway Furniture (Dong Guan) Co. Ltd., Brittomart Inc.*
Tianjin First Wood Co., Ltd.
Tianjin Fortune Furniture Co. Ltd.*
Tianjin Master Home Furniture*
Tianjin Phu Shing Woodwork Enterprise Co., Ltd.*
Tianjin Sande Fairwood Furniture Co., Ltd.*
Time Crown (U.K.) International Ltd., China United International Co.
Top Art Furniture, Ngai Kun Trading
Top Goal Development Co., Top Goal Furniture Co., Ltd. (Shenzhen)
Tradewinds Furniture Ltd.
Tradewinds International Enterprise Ltd.
Transworld (Zhangzhou) Furniture Co., Ltd.
Trendex Industries Limited (BVI)
Triple J Furntiure Enterprises Co., Mandarin Furniture (Shenzhen) Co., Ltd.
Tube-Smith Enterprises (ZhangZhou) Co., Ltd., Tube-Smith Enterprise (Haimen) Co., Ltd., Billionworth Enterprise, Ltd.*
Union Friend International Trade Co., Ltd.*
U-Rich Furniture (ZhangZhou) Co., Ltd., U-Rich Furniture, Ltd.*
Wan Bao Cheng Group Hong Kong Co., Ltd.
Wanhengtong Nueevder (Furniture) Manufacture Co., Ltd., Dongguan Wanhengtong Industry Co., Ltd.*
Winmost Enterprises Limited
Winny Universal, Ltd., Zhongshan Winny Furniture Ltd., Winny Overseas, Ltd.
Woodworth Wooden Industries (Dong Guan) Co., Ltd.*
Xiamen Yongquan Sci-Tech Development Co., Ltd.*
Xilinmen Group Co., Ltd.
Xingli Arts & Crafts Factory of Yangchun*
Yangchun Hengli Co., Ltd.*
Yeh Brothers World Trade Inc*.
Yichun Guangming Furniture Co., Ltd.*
Yida Co. Ltd., Yitai Worldwide Ltd., Yili Co., Ltd., Yetbuild Co., Ltd.*
Yihua Timber Industry Co., Ltd., aka Guangdong Yihua Timber Industry Co., Ltd.*
Yongxin Industrial (Holdings) Limited
ZhangZhou Sanlong Wood Product Co., Ltd.*
Zhangjiagang Daye Hotel Furniture Co., Ltd.*
Zhangjiagang Zheng Yan Decoration Co. Ltd.*
Zhangzhou Guohui Industrial & Trade Co. Ltd.*
Zhanjiang Sunwin Arts & Crafts Co., Ltd.*
Zhejiang NiannianHong Industrial Co., Ltd.
Zhong Cheng Furniture Co., Ltd.
Zhong Shan Fullwin Furniture Co., Ltd.*
Zhongshan Fookyik Furniture Co., Ltd.*
Zhongshan Gainwell Furniture Co., Ltd.
Zhongshan Golden King Furniture Industrial Co., Ltd.*
Zhongshan Youcheng Wooden Arts & Crafts Co., Ltd.
Zhoushan For-Strong Wood Co., Ltd.*
¹ If one of the above named companies does not qualify for a separate rate, all other exporters of wooden bedroom furniture from the PRC that have not qualified for a separate rate are deemed to be covered by this review as part of the single PRC entity of which the named exporter is a part.
* These companies received a separate rate in the prior segment (the less-than-fair-value-investigation) of this proceeding.

Separate Rates

In proceedings involving non-market economy (“NME”) countries, the Department begins with a rebuttable presumption that all companies within the country are subject to government control and, thus, should be assigned a single antidumping duty deposit rate. It is the Department's policy to assign all exporters of merchandise subject to investigation in an NME country this single rate unless an exporter can demonstrate that it is sufficiently independent so as to be entitled to a separate rate.

To establish whether a firm is sufficiently independent from government control of its export activities to be entitled to a separate rate, the Department analyzes each entity exporting the subject merchandise under a test arising from the Final Determination of Sales at Less Than Fair Value: Sparklers from the People's Republic of China, 56 FR 20588 (May 6, 1991) (“Sparklers”), as amplified by Final Determination of Sales at Less Than Fair Value: Silicon Carbide from the People's Republic of China, 59 FR 22585 (May 2, 1994) (“Silicon Carbide”). In accordance with the separate-rates criteria, the Department assigns separate rates to companies in NME cases only if respondents can demonstrate the absence of both de jure and de facto government control over export activities.

The Department recently modified the process by which exporters and producers may obtain separate-rate status in NME investigations. See Policy Bulletin 05.1: Separate-Rates Practice and Application of Combination Rates in Antidumping Investigations Involving Non-Market Economy Countries, (April 5, 2005), available on the Department's Web site at http://ia.ita.doc.gov/policy/bull05-1.pdf. The process now requires the submission of a separate-rate status application.

Due to the large number of firms requesting an administrative review in this proceeding, the Department is requiring all firms listed above that wish to qualify for separate-rate status in this administrative review to complete, as appropriate, either a separate-rate status application or certification, as described below.

For this administrative review, in order to demonstrate separate-rate eligibility, the Department requires entities for whom a review was requested that were assigned a separate rate in the less than fair value investigation of this proceeding to certify that they continue to meet the criteria for obtaining a separate rate. The certification form will be available on the Department's Web site at http://ia.ita.doc.gov/ on the date of publication of this Federal Register. In responding to the certification, please follow the “Instructions for Filing the Certification” in the Separate Rate Certification. Certifications are due to the Department no later than March 21, 2007. The deadline and requirement for submitting a Certification applies equally to NME-owned firms, wholly foreign-owned firms, and foreign sellers who purchase the subject merchandise and export it to the United States.

For entities that have not previously been assigned a separate rate, to demonstrate eligibility for such, the Department requires a separate-rate status application. The separate-rate status application will be available on the Department's Web site at http://ia.ita.doc.gov/ on the date of publication of this Federal Register. In responding to the separate-rate status application, refer to the instructions contained in the application. Separate-rate status applications are due to the Department no later than May 7, 2007. The deadline and requirement for submitting a separate-rate status application applies equally to NME-owned firms, wholly foreign-owned firms, and foreign sellers that purchase the subject merchandise and export it to the United States.

Section 777A(c)(1) of the Tariff Act of 1930, as amended (“the Act”) directs the Department to calculate individual dumping margins for each known exporter and producer of the subject merchandise. Where it is not practicable to examine all known producers/exporters of subject merchandise, section 777A(c)(2) of the Act permits the Department to examine either (1) a sample of exporters, producers or types of products that is statistically valid based on the information available at the time of selection; or (2) exporters and producers accounting for the largest volume of the subject merchandise from the exporting country that can be reasonably examined. Due to the large number of firms requested for an administrative review and the Department's experience regarding the resulting administrative burden to review each company for which a request has been made, the Department is considering exercising its authority to limit the number of respondents selected for review using one of the two methods described above.

Quantity and Value Questionnaire

In advance of issuance of the antidumping questionnaire, we will also be requiring all parties for whom a review is requested to respond to a Quantity and Value (“Q&V”) questionnaire, which will request information on the respective quantity and U.S. dollar sales value of all exports to the United States of wooden bedroom furniture during the period of January 1, 2006, through December 31, 2006. Additionally, in the event sampling is employed, in order to determine a sampling method that is representative of the sales under review, the Department will require that each company complete the economic characteristics section of the Q&V questionnaire. The Q&V questionnaire will be available on the Department's Web site at http://ia.ita.doc.gov/ on the date of publication of this Federal Register. The responses to the Q&V questionnaire are due to the Department no later than March 21, 2007. Due to the time constraints imposed by our statutory and regulatory deadlines, and the need to preserve the statistical validity of the sampling methodology, the Department may not be able to grant any extensions for the submission of the Q&V questionnaire. In responding to the Q&V questionnaire, refer to the instructions contained in the Q&V questionnaire.

Notice

This notice constitutes public notification to all firms requested for review and seeking separate-rate status in this administrative review of the antidumping duty order on wooden bedroom furniture from the PRC that they must submit a separate-rate status application or certification (as appropriate) as described above, and a complete response to the Q&V questionnaire within the time limits established in this notice of initiation of administrative review in order to receive consideration for separate-rate status. In other words, the Department will not give consideration to any separate-rates certification or separate rate-status application made by parties who fail to timely respond to the Q&V questionnaire or fail to timely submit the requisite separate-rate certification or application. All information submitted by respondents in this administrative review is subject to verification. To allow the possibility for sampling and to complete this segment within the statutory time frame, the Department will be limited in its ability to extend deadlines on the above submissions. As noted above, the separate-rate certification, the separate-rate status application, and the Q&V questionnaire will be available on the Department's Web site at http://ia.ita.doc.gov/ on the date of publication of this Federal Register. However, the Department will also issue, as a courtesy to the parties, a letter of notification of these requirements to the parties requested for review.

Interested parties must submit applications for disclosure under administrative protective orders in accordance with 19 CFR 351.305. Instructions for filing such applications may be found on the Department's Web site at http://ia.ita.doc.gov.

This initiation and notice are in accordance with section 751(a) of the Act (19 U.S.C. 1675(a)), and 19 CFR 351.221(c)(1)(i).

Dated: February 28, 2007.
Wendy J. Frankel,
Director AD/CVD Operations, Office 8 for Import Administration.

[FR Doc. E7-4051 Filed 3-6-07; 8:45 am]

BILLING CODE 3510-DS-P